DEPARTMENT OF EDUCATION

34 CFR Chapter III

Final Waiver and Extension of the Project Period; National Individuals With Disabilities Education Act (IDEA) Technical Assistance Center on Early Childhood Longitudinal Data Systems

AGENCY: Office of Special Education Programs (OSEP), Office of Special Education and Rehabilitative Services, Department of Education.

ACTION: Final waiver and extension of the project period.

[Catalog of Federal Domestic Assistance (CFDA) Number: 84.373Z.]

SUMMARY: The Secretary waives the requirements that generally prohibit project periods exceeding five years and project period extensions involving the obligation of additional Federal funds. This action enables the National IDEA Technical Assistance Center on Early Childhood Longitudinal Data Systems (Center), currently funded under the Technical Assistance on State Data Collection Program, to receive funding from December 1, 2017, through November 30, 2018. This also means that we will not announce a new competition or make new awards in fiscal year (FY) 2017.

DATES: As of July 31, 2017, the Secretary waives project period requirements and extends the project period.

FOR FURTHER INFORMATION CONTACT: Meredith Miceli, U.S. Department of Education, 400 Maryland Avenue SW., Room 5130, Potomac Center Plaza, Washington, DC 20202-5108. Telephone: (202) 245-6028.

If you use a telecommunications device for the deaf or a text telephone, call the Federal Relay Service, toll free, at 1-800-877-8339.

SUPPLEMENTARY INFORMATION: On February 27, 2017, we published a document in the Federal Register (82 FR 11870) proposing an extension of the project period and waiver of 34 CFR 75.250 and 75.261(a) and (c)(2) for the Center (the waiver and extension) in order to:

(1) Enable the Secretary to provide additional funds to the currently funded Center for an additional 12-month period; and

(2) Invite comments on the proposed extension of project period and waiver.

There are no substantive differences between the proposed waiver and extension and this final waiver and extension.

Public Comment

Eight commenters responded to our invitation to comment in the proposed waiver and extension. Seven of the eight supported the proposed waiver and extension. One expressed concern regarding the proposed extension.

Analysis of Comments and Changes

Comment: Seven of the eight commenters provided favorable and supportive comments regarding the proposed waiver and extension.

Discussion: We thank these commenters for their support.

Changes: None.

Comment: One commenter requested information on the cost of the current grant.

Discussion: Beginning in December 2012, SRI International, the current grantee, has received approximately $6.5 million annually to run the Center. The waiver and extension will allow for an additional year of funding at the same level.

Changes: None.

Comment: The same commenter expressed concern that this one-year extension would not secure future funding for the Center or these efforts and would prove harmful to children with disabilities.

Discussion: We appreciate the commenter's concern for the long-term future of this important work. The extension would ensure continuity of valuable technical assistance (TA) services in critically needed areas, which will benefit States as they provide early intervention and special education services to children with disabilities. We agree that recompeting this investment in FY 2017 would likely provide additional clarity around funding priorities in future years. However, the Department is taking this action to ensure efficient and effective coordination of data TA by aligning the funding cycle for two large data TA centers. We believe such an approach is in the best interests of both States and the children with disabilities they serve.

Changes: None.

Comment: None.

Discussion: We misstated the dates of the extended project period in the proposed extension and waiver (October 1, 2017 through September 30, 2018). We have changed the dates to align with the period of the current grant (December 1, 2017 through November 30, 2018).

Changes: We have changed the dates of the project period for this extension to December 1, 2017, through November 30, 2018.

Final Waiver and Extension

In the proposed waiver and extension, we discuss the background and purposes of the Center and our reasons for proposing the waiver and extension.

For these reasons, the Secretary waives the requirements in 34 CFR 75.250, which prohibit project periods exceeding five years, as well as the requirements in 34 CFR 75.261(a) and (c)(2), which allow the extension of a project period only if the extension does not involve the obligation of additional Federal funds. The waiver allows the Department to issue a one-time FY 2017 continuation award of $6,500,000 to the Center originally funded in FY 2012.

Any activities carried out during the year of this continuation award must be consistent with, or a logical extension of, the scope, goals, and objectives of the grantee's application as approved in the 2012 competition. The requirements for continuation awards are set forth in the document inviting applications published in the Federal Register on February 27, 2017 (82 FR 11870) for a new award for FY 2012 and in 34 CFR 75.253.

Waiver of Delayed Effective Date

The Administrative Procedure Act requires that a substantive rule must be published at least 30 days before its effective date, except as otherwise provided for good cause (5 U.S.C. 553(d)(3)). All but one of the comments we received supported the proposed waiver and extension, and we have not made any substantive changes to the proposed waiver and extension. Therefore, the Secretary waives the delayed effective date to ensure there is no lapse in the TA services currently provided by the Center.

Regulatory Flexibility Act Certification

The Secretary certifies that this final waiver and extension of the project period will not have a significant economic impact on a substantial number of small entities.

The only entities that will be affected are the current grantee receiving Federal funds and any other potential applicants.

The Secretary certifies that this waiver and final extension will not have a significant economic impact on these entities because the extension of existing project periods imposes minimal compliance costs, and the activities required to support the additional year of funding will not impose additional regulatory burdens or require unnecessary Federal supervision.

Paperwork Reduction Act of 1995

This final waiver and extension of the project period does not contain any information collection requirements.

Intergovernmental Review

This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: July 25, 2017.
Kimberly M. Richey,
Acting Assistant Secretary for Special Education and Rehabilitative Services.

[FR Doc. 2017-16068 Filed 7-28-17; 8:45 am]

BILLING CODE 4000-01-P